DEPARTMENT OF ENERGY

Federal Energy Regulatory Commission

[Docket No. OR17-19-000; Docket No. OR17-11-000]

West Texas LPG Pipeline Limited Partnership; Wood River Pipe Lines LLC; Notice of Designation of Commission Staff as Non-Decisional

With respect to the proceedings pending before the Commission in the above-captioned dockets, Dr. Emma Nicholson from the Office of Energy Policy and Innovation is designated as non-decisional in deliberations by the Commission in these dockets. Accordingly, pursuant to 18 CFR 385.2202 (2017), as non-decisional staff, Dr. Nicholson will not participate in an advisory capacity in the Commission's review of any future filings in the above-referenced dockets, including offers of settlement or settlement agreements. Likewise, pursuant to 18 CFR 385.2201 (2017), Dr. Nicholson is prohibited from communicating with advisory staff concerning any deliberations in these dockets.

Dated: May 16, 2018.
Kimberly D. Bose,
Secretary.

[FR Doc. 2018-11046 Filed 5-22-18; 8:45 am]

BILLING CODE 6717-01-P